NUCLEAR REGULATORY COMMISSION

[NRC-2008-0427]

Notice of Issuance of Regulatory Guide

AGENCY: Nuclear Regulatory Commission.

ACTION: Notice of Issuance and Availability of Regulatory Guide 3.12, Revision 1, “General Design Guide for Ventilation Systems of Plutonium Processing and Fuel Fabrication Plants.”

FOR FURTHER INFORMATION CONTACT: Angelisa L. Hicks, Regulatory Guide Development Branch, Division of Engineering, Office of Nuclear Regulatory Research, U.S. Nuclear Regulatory Commission, Washington, DC 20555-0001, telephone 301-251-7448 or e-mail: Angelisa.Hicks@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 3.12, “General Design Guide for Ventilation Systems of Plutonium Processing and Fuel Fabrication Plant,” was issued with a temporary identification as Draft Regulatory Guide, DG-3034. This guide describes a method that the staff of the NRC considers acceptable for use in complying with Title 10, § 70.23(a)(3), of the Code of Federal Regulations (10 CFR 70.23(a)(3)), and 10 CFR 70.23(a)(4) on the design of ventilation systems for plutonium processing and fuel fabrication plants. At plutonium processing and fuel fabrication plants, a principal risk to health and safety is the release and dispersal of radioactive materials. The prevention of such release and dispersal is an important function of the ventilation systems. To meet these objectives, this guide provides recommendations for achieving defense in depth and for minimizing the release of radioactive materials to the environment.

Each applicant for a license to possess and use special nuclear material in a plutonium processing and fuel fabrication plant, as defined in 10 CFR 70.4, “Definitions,” must satisfy the provisions of 10 CFR 70.23, “Requirements for the Approval of Applications.” The regulations at 10 CFR 70.23(a)(3) and 10 CFR 70.23(a)(4) require that the applicant's proposed equipment, facility, and procedures be adequate to protect health and minimize danger to life or property.

II. Further Information

In July 2008, DG-3034 was published with a public comment period of 60 days from the issuance of the guide. The public comment period closed on October 1, 2008. The comments and responses are available through the NRC's Agencywide Documents Access and Management System (ADAMS) under Accession No. ML102730465. Electronic copies of Regulatory Guide 3.12, Revision 1 are available through the NRC's public Web site under “Regulatory Guides” at http://www.nrc.gov/reading-rm/doc-collections/. The regulatory analysis may be found in ADAMS under Accession No. ML102730449.

In addition, regulatory guides are available for inspection at the NRC's Public Document Room (PDR) located at Room O1-F21, One White Flint North, 11555 Rockville Pike, Rockville, Maryland 20852-2738. The PDR's mailing address is USNRC PDR, Washington, DC 20555-0001. The PDR can also be reached by telephone at 301-415-4737 or 1-800-397-4209, by fax at 301-415-3548, and by e-mail to pdr.resources@nrc.gov.

Regulatory guides are not copyrighted, and NRC approval is not required to reproduce them.

Dated at Rockville, Maryland, this 10th day of December, 2010.
For the Nuclear Regulatory Commission.
John N. Ridgely,
Acting Chief, Regulatory Guide Development Branch, Division of Engineering, Office of Nuclear Regulatory Research.

[FR Doc. 2010-31731 Filed 12-16-10; 8:45 am]

BILLING CODE 7590-01-P